SECURITIES AND EXCHANGE COMMISSION

[Release No. 34-84462; File No. SR-NYSEArca-2018-25]

Self-Regulatory Organizations; NYSE Arca, Inc.; Notice of Designation of a Longer Period for Commission Action on Proceedings To Determine Whether To Approve or Disapprove a Proposed Rule Change, as Modified by Amendment No. 1, Regarding the Continued Listing and Trading of Shares of the Natixis Loomis Sayles Short Duration Income ETF

October 22, 2018.

On April 16, 2018, NYSE Arca, Inc. (“NYSE Arca” or “Exchange”) filed with the Securities and Exchange Commission (“Commission”), pursuant to Section 19(b)(1) of the Securities Exchange Act of 1934 (“Act”) ¹ and Rule 19b-4 thereunder,² a proposed rule change to continue listing and trading shares of the Natixis Loomis Sayles Short Duration Income ETF under NYSE Arca Rule 8.600-E, Managed Fund Shares.³ The proposed rule change was published for comment in the Federal Register on May 3, 2018.⁴ On June 5, 2018, pursuant to Section 19(b)(2) of the Act,⁵ the Commission designated August 1, 2018 as the date by which to approve the proposed rule change, disapprove the proposed rule change, or institute proceedings to determine whether to disapprove the proposed rule change.⁶ On June 6, 2018, the Exchange filed Amendment No. 1 to the proposed rule change.⁷ On July 27, 2018, the Commission instituted proceedings to determine whether to approve or disapprove the proposed rule change.⁸ The Commission has received no comments on the proposed rule change.

¹ 15 U.S.C. 78s(b)(1).

² 17 CFR 240.19b-4.

³ Currently, the Exchange lists and trades the shares pursuant to NYSE Arca Rule 8.600-E. As discussed in Amendment No. 1, infra note 7, the Exchange submitted this proposed rule change to permit the fund's portfolio to deviate from two of the “generic” listing requirements applicable to Managed Fund Shares.

⁴ See Securities Exchange Act Release No. 83122 (April 27, 2018), 83 FR 19578.

⁵ 15 U.S.C. 78s(b)(2).

⁶ See Securities Exchange Act Release No. 83385, 83 FR 27034 (June 11, 2018).

⁷ Amendment No. 1, which amended and replaced the proposed rule change in its entirety, is available at: https://www.sec.gov/comments/sr-nysearca-2018-25/nysearca201825-3795048-162717.pdf.

⁸ See Securities Exchange Act Release No. 83733, 83 FR 37831 (August 2, 2018).

Section 19(b)(2) of the Act ⁹ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The proposed rule change was published for notice and comment in the Federal Register on May 3, 2018. October 30, 2018 is 180 days from that date, and December 29, 2018 is 240 days from that date.

⁹ 15 U.S.C. 78s(b)(2).

The Commission finds it appropriate to designate a longer period within which to issue an order approving or disapproving the proposed rule change so that it has sufficient time to consider this proposed rule change, as modified by Amendment No. 1. Accordingly, the Commission, pursuant to Section 19(b)(2) of the Act,¹⁰ designates December 29, 2018 as the date by which the Commission shall either approve or disapprove the proposed rule change (File No. SR-NYSEArca-2018-25), as modified by Amendment No. 1.

¹⁰ Id.

For the Commission, by the Division of Trading and Markets, pursuant to delegated authority.¹¹
Eduardo A. Aleman,
Assistant Secretary.

¹¹ 17 CFR 200.30-3(a)(57).

[FR Doc. 2018-23387 Filed 10-25-18; 8:45 am]

BILLING CODE 8011-01-P